Title 3—

The President

Proclamation 10522 of February 24, 2023

Adjusting Imports of Aluminum Into the United States

By the President of the United States of America

A Proclamation

1. On January 19, 2018, the Secretary of Commerce (Secretary) transmitted to the President a report on the Secretary's investigation into the effect of imports of aluminum articles on the national security of the United States under section 232 of the Trade Expansion Act of 1962, as amended (19 U.S.C. 1862). The Secretary found and advised the President of his opinion that aluminum articles are being imported into the United States in such quantities and under such circumstances as to threaten to impair the national security of the United States.

2. In Proclamation 9704 of March 8, 2018 (Adjusting Imports of Aluminum Into the United States), the President concurred in the Secretary's finding that aluminum articles are being imported into the United States in such quantities and under such circumstances as to threaten to impair the national security of the United States, and decided to adjust the imports of aluminum articles by imposing a 10 percent ad valorem tariff on such articles imported from most countries.

3. In Proclamation 9704, the President also directed the Secretary to monitor imports of aluminum articles and inform the President of any circumstances that in the Secretary's opinion might indicate the need for further action under section 232 of the Trade Expansion Act of 1962, as amended, with respect to such imports.

4. The Secretary has informed me that the capacity utilization in the domestic aluminum industry remains well below the target capacity utilization level recommended in the January 2018 report. The Secretary has also informed me that two of the five remaining aluminum smelters in the United States are in danger of closing as a result of continued high levels of aluminum imports and high energy prices.

5. In the Secretary's January 2018 report, the Secretary recommended that the President consider applying a higher tariff to a list of specific countries should the President determine that all countries should not be subject to the same tariff. One of the countries on that list was the Russian Federation (Russia). As the Secretary explained in that report, Russia is among the major exporters of aluminum to the United States for domestic consumption. While aluminum imports from Russia have declined from the volume in the Secretary's 2018 report, Russia remains the fifth largest source of imported aluminum in the United States, and the imports of aluminum from Russia have increased in both 2021 and 2022. Distortions that result from overcapacity threaten market-oriented aluminum industries and Russia's aluminum industry in particular is extremely export oriented, with Russia being the largest exporter of unwrought aluminum in 2021 and Russian domestic consumption accounting for just 22 percent of Russian production across 2021 and 2022. United States imports of Russian aluminum increased by 53 percent between March and July 2022.

6. Russia continues its unjustified, unprovoked, unyielding, and unconscionable war against Ukraine. The Russian aluminum industry is a key part of Russia's defense industrial base and has played a major role in supplying Russia with weapons and ammunition used in the war. In addition, Russia's war against Ukraine has caused global energy prices to rise, causing direct harm to the United States aluminum industry.

7. To further reduce imports of aluminum articles and increase domestic capacity utilization, I have determined that it is necessary and appropriate to impose:

(a) beginning on March 10, 2023, a 200 percent ad valorem tariff on aluminum articles that are the product of Russia and derivative aluminum articles that are the product of Russia; and

(b) beginning on April 10, 2023, a 200 percent ad valorem tariff on aluminum articles where any amount of primary aluminum used in the manufacture of the aluminum articles is smelted in Russia, or the aluminum articles are cast in Russia, and derivative aluminum articles where any amount of primary aluminum used in the manufacture of the derivative aluminum articles is smelted in Russia, or the derivative aluminum articles are cast in Russia.

(c) “Primary aluminum” is defined as new aluminum metal that is produced from alumina (or aluminum oxide) by the electrolytic Hall-Heroult process.

8. The Secretary has advised me that the tariff adjustment described in paragraph 7 of this proclamation will be a significant step toward ensuring the viability of the domestic aluminum industry.

9. In adopting the tariff adjustment described in paragraph 7 of this proclamation, I recognize that concerns about aluminum imports from Russia and their impact on our national security are shared by other countries, and that we need to work together with our partners to ensure that the global market distortions caused by Russian aluminum articles do not distort our markets and threaten our national security. Any country that imposes a tariff of 200 percent or more on its imports of aluminum articles that are products of Russia may be exempt from the tariff imposed by this proclamation.

10. Section 232 of the Trade Expansion Act of 1962, as amended, authorizes the President to adjust the imports of an article and its derivatives that are being imported into the United States in such quantities or under such circumstances as to threaten to impair the national security.

11. Section 604 of the Trade Act of 1974, as amended (19 U.S.C. 2483), authorizes the President to embody in the Harmonized Tariff Schedule of the United States (HTSUS) the substance of statutes affecting import treatment, and actions thereunder, including the removal, modification, continuance, or imposition of any rate of duty or other import restriction.

NOW, THEREFORE, I, JOSEPH R. BIDEN JR., President of the United States of America, by the authority vested in me by the Constitution and the laws of the United States of America, including section 232 of the Trade Expansion Act of 1962, as amended, section 301 of title 3, United States Code, and section 604 of the Trade Act of 1974, as amended, do hereby proclaim as follows:

(1) In order to establish increases in the duty rate on imports of aluminum articles that are the product of Russia, or where any amount of primary aluminum used in the manufacture of the aluminum articles is smelted in Russia, or the aluminum articles are cast in Russia, subchapter III of chapter 99 of the HTSUS is modified as provided in the Annex to this proclamation. In order to establish increases in the duty rate on imports of derivative aluminum articles that are the product of Russia, or where any amount of primary aluminum used in the manufacture of the derivative aluminum articles is smelted in Russia, or the derivative aluminum articles are cast in Russia, subchapter III of chapter 99 of the HTSUS is modified as provided in the Annex to this proclamation.

(2) Clause 2 of Proclamation 9704, as amended, is further amended in the second sentence by deleting “and” before “(i)” and inserting before the period at the end: “, and (j) on or after 12:01 a.m. eastern standard time on March 10, 2023, from all countries except Argentina, Australia, Canada, Mexico, and from the member countries of the European Union through 11:59 p.m. eastern standard time on December 31, 2023, from the United Kingdom, for aluminum articles covered by headings 9903.85.25 through 9903.85.44, inclusive, and from Russia. Further, except as otherwise provided in notices published pursuant to clause 3 of this proclamation, aluminum articles imports covered by clause 1 of this proclamation that are products of Russia shall be subject to a 200 percent ad valorem rate of duty with respect to goods entered for consumption, or withdrawn from warehouse for consumption, on or after 12:01 a.m. eastern standard time on March 10, 2023; and aluminum articles imports covered by clause 1 of this proclamation where any amount of primary aluminum used in the manufacture of the aluminum articles is smelted in Russia, or the aluminum articles are cast in Russia, shall be subject to a 200 percent ad valorem rate of duty with respect to goods entered for consumption, or withdrawn from warehouse for consumption, on or after 12:01 a.m. eastern daylight time on April 10, 2023.” Clause 2 of Proclamation 9704, as amended, is further amended by deleting the last sentence and inserting in lieu thereof: “These rates of duty, which are in addition to any other duties, fees, exactions, and charges applicable to such imported aluminum articles, shall apply to imports of aluminum articles from each country as specified in the preceding two sentences.”

(3) The first two sentences of clause 1 of Proclamation 9980 of January 24, 2020 (Adjusting Imports of Derivative Aluminum Articles and Derivative Steel Articles Into the United States), are revised to read as follows:

“In order to establish increases in the duty rate on imports of certain derivative articles, subchapter III of chapter 99 of the HTSUS is modified as provided in the Annex to this proclamation. Except as otherwise provided in this proclamation, all imports of derivative aluminum articles specified in the Annex to this proclamation shall be subject to an additional 10 percent ad valorem rate of duty, and all imports of derivative steel articles specified in the Annex to this proclamation shall be subject to an additional 25 percent ad valorem rate of duty, with respect to goods entered for consumption, or withdrawn from warehouse for consumption, as follows: (i) on or after 12:01 a.m. eastern standard time on February 8, 2020, these rates of duty, which are in addition to any other duties, fees, exactions, and charges applicable to such imported derivative aluminum articles or steel articles, shall apply to imports of derivative aluminum articles described in the Annex to this proclamation from all countries except Argentina, the Commonwealth of Australia (Australia), Canada, and the United Mexican States (Mexico) and to imports of derivative steel articles described in the Annex to this proclamation from all countries except Argentina, Australia, Brazil, Canada, Mexico, and South Korea; (ii) on or after 12:01 a.m. eastern standard time on January 1, 2022, these rates of duty, which are in addition to any other duties, fees, exactions, and charges applicable to such imported derivative aluminum articles or steel articles, shall apply to imports of derivative aluminum articles described in the Annex to this proclamation from all countries except Argentina, Australia, Canada, the member countries of the European Union, and Mexico and to imports of derivative steel articles described in the Annex to this proclamation from all countries except Argentina, Australia, Brazil, Canada, the member countries of the European Union, Mexico, and South Korea; (iii) on or after 12:01 a.m. eastern daylight time on April 1, 2022, these rates of duty, which are in addition to any other duties, fees, exactions, and charges applicable to such imported derivative aluminum articles or steel articles, shall apply to imports of derivative aluminum articles described in the Annex to this proclamation from all countries except Argentina, Australia, Canada, the member countries of the European Union, and Mexico and to imports of derivative steel articles described in the Annex to this proclamation from all countries except Argentina, Australia, Brazil, Canada, the member countries of the European Union, Japan, Mexico, and South Korea; (iv) on or after 12:01 a.m. eastern daylight time on June 1, 2022, these rates of duty, which are in addition to any other duties, fees, exactions, and charges applicable to such imported derivative aluminum articles or steel articles, shall apply to imports of derivative aluminum articles described in the Annex to this proclamation from all countries except Argentina, Australia, Canada, the member countries of the European Union, and Mexico, and to imports of derivative steel articles described in the Annex to this proclamation from all countries except Argentina, Australia, Brazil, Canada, the member countries of the European Union, Japan, Mexico, and South Korea, and except from Ukraine through 11:59 p.m. eastern daylight time on June 1, 2023; (v) on or after 12:01 a.m. eastern daylight time on June 1, 2022, these rates of duty, which are in addition to any other duties, fees, exactions, and charges applicable to such imported derivative aluminum articles or steel articles, shall apply to imports of derivative aluminum articles described in the Annex to this proclamation from all countries except Argentina, Australia, Canada, the member countries of the European Union, Mexico, and the UK, and to imports of derivative steel articles described in the Annex to this proclamation from all countries except Argentina, Australia, Brazil, Canada, the member countries of the European Union, Japan, Mexico, South Korea, and the UK, and except from Ukraine through 11:59 p.m. eastern daylight time on June 1, 2023; and (vi) on or after 12:01 a.m. eastern standard time on March 10, 2023, these rates of duty, which are in addition to any other duties, fees, exactions, and charges applicable to such imported derivative aluminum articles or steel articles, shall apply to imports of derivative aluminum articles described in the Annex to this proclamation from all countries except Argentina, Australia, Canada, the member countries of the European Union, Mexico, the UK, and Russia, and to imports of derivative steel articles described in the Annex to this proclamation from all countries except Argentina, Australia, Brazil, Canada, the member countries of the European Union, Japan, Mexico, South Korea, and the UK, and except from Ukraine through 11:59 p.m. eastern daylight time on June 1, 2023. Further, except as otherwise provided in this proclamation, all imports of derivative aluminum articles specified in the Annex to this proclamation that are the product of Russia shall be subject to a 200 percent ad valorem rate of duty with respect to goods entered for consumption, or withdrawn from warehouse for consumption, on or after 12:01 a.m. eastern standard time on March 10, 2023; and all imports of derivative aluminum articles specified in the Annex to this proclamation where any amount of primary aluminum used in the manufacture of the derivative aluminum articles is smelted in Russia, or the derivative aluminum articles are cast in Russia, shall be subject to a 200 percent ad valorem rate of duty with respect to goods entered for consumption, or withdrawn from warehouse for consumption, on or after 12:01 a.m. eastern daylight time on April 10, 2023. Primary aluminum is defined as new aluminum metal that is produced from alumina (or aluminum oxide) by the electrolytic Hall-Heroult process.”

(4) For purposes of implementing the duty increases in this proclamation, importers shall provide to U.S. Customs and Border Protection (CBP) information necessary to identify the countries where the primary aluminum used in the manufacture of aluminum articles imports, covered by clause 1 of Proclamation 9704, and derivative aluminum articles, specified in Annex I of Proclamation 9980, are smelted and information necessary to identify the countries where such aluminum articles imports and derivative aluminum articles are cast. CBP shall implement the smelt and cast information requirements as soon as practicable.

(5) The modifications to the HTSUS made by the Annex to this proclamation shall be effective with respect to goods entered for consumption, or withdrawn from warehouse for consumption, on or after 12:01 a.m. eastern standard time on March 10, 2023, and shall continue in effect, unless such actions are expressly reduced, modified, or terminated.

(6) Any imports of aluminum articles that are the product of Russia shall not be eligible for any General Approved Exclusions as set forth in supplement number 3 to part 705 of title 15 of the Code of Federal Regulations if entered for consumption, or withdrawn from warehouse for consumption, on or after 12:01 a.m. eastern standard time on March 10, 2023, and any imports of aluminum articles where any amount of primary aluminum used in the manufacture of the aluminum articles is smelted in Russia, or the aluminum articles are cast in Russia, shall not be eligible for any General Approved Exclusions as set forth in supplement number 3 to part 705 of title 15 of the Code of Federal Regulations if entered for consumption, or withdrawn from warehouse for consumption, on or after 12:01 a.m. eastern daylight time on April 10, 2023. Any imports of derivative aluminum articles that are the product of Russia shall not be eligible for any General Approved Exclusions as set forth in supplement number 3 to part 705 of title 15 of the Code of Federal Regulations if entered for consumption, or withdrawn from warehouse for consumption, on or after 12:01 a.m. eastern standard time on March 10, 2023, and any imports of derivative aluminum articles where any amount of primary aluminum used in the manufacture of the derivative aluminum articles is smelted in Russia, or the derivative aluminum articles are cast in Russia shall not be eligible for any General Approved Exclusions as set forth in supplement number 3 to part 705 of title 15 of the Code of Federal Regulations if entered for consumption, or withdrawn from warehouse for consumption, on or after 12:01 a.m. eastern daylight time on April 10, 2023.

(7) Any imports of aluminum articles that are the product of Russia shall not be eligible for in-quota treatment for any quota or tariff-rate quota maintained under the authority of section 232 of the Trade Expansion Act of 1962, as amended, if entered for consumption, or withdrawn from warehouse for consumption, on or after 12:01 a.m. eastern standard time on March 10, 2023, and any imports of aluminum articles where any amount of primary aluminum used in the manufacture of the aluminum articles is smelted in Russia, or the aluminum articles are cast in Russia shall not be eligible for in-quota treatment for any quota or tariff-rate quota maintained under the authority of section 232 of the Trade Expansion Act of 1962, as amended, if entered for consumption, or withdrawn from warehouse for consumption, on or after 12:01 a.m. eastern daylight time on April 10, 2023.

(8) Any imports of aluminum articles or derivative aluminum articles that are the product of Russia, where any amount of primary aluminum used in the manufacture of the aluminum articles or derivative aluminum articles is smelted in Russia, or the aluminum articles or derivative aluminum articles are cast in Russia, that were admitted into a U.S. foreign trade zone under “privileged foreign status” as defined in 19 CFR 146.41, shall be subject upon entry for consumption made on or after 12:01 a.m. eastern standard time on March 10, 2023, to the provisions of the tariff in effect at the time of the entry for consumption.

(9) Any provision of previous proclamations and Executive Orders that is inconsistent with the actions taken in this proclamation is superseded to the extent of such inconsistency.

IN WITNESS WHEREOF, I have hereunto set my hand this twenty-fourth day of February, in the year of our Lord two thousand twenty-three, and of the Independence of the United States of America the two hundred and forty-seventh.

Billing code 3395-F3-P

[FR Doc. 2023-04470

Filed 3-1-23; 11:15 a.m.]

Billing code 7020-02-C